DEPARTMENT OF DEFENSE

Office of the Secretary

Meeting of the National Commission on the Structure of the Air Force

AGENCY: Director of Administration and Management, DoD.

ACTION: Notice of Advisory Committee Meetings.

SUMMARY: The Department of Defense is publishing this notice to announce a closed Federal advisory committee meeting of the National Commission on the Structure of the Air Force (“the Commission”).

DATES: Date of Closed Meetings: Tuesday, December 10, 2013, from 10:00 a.m. to 5:00 p.m.

ADDRESSES: 2521 South Clark Street, Suite 525, Crystal City, VA 22202 and, as necessary, a secure video teleconferencing line.

FOR FURTHER INFORMATION CONTACT: Mrs. Marcia Moore, Designated Federal Officer, National Commission on the Structure of the Air Force, 1950 Defense Pentagon, Room 3A874, Washington, DC 20301-1950. Email: marcia.l.moore12.civ@mail.mil. Desk (703) 545-9113. Facsimile (703) 692-5625.

SUPPLEMENTARY INFORMATION: Purpose of Meetings: The meetings are being held under the provisions of the Federal Advisory Committee Act (FACA) of 1972 (5 U.S.C., Appendix, as amended), the Government in the Sunshine Act of 1976 (5 U.S.C. 552b, as amended), and 41 CFR 102-3.150. The meeting scheduled for December 10, 2013 is the fourth in a series of five meetings held for the Commissioners to consider information and data from a variety of sources that will be presented and aggregated by employing several data, analytic and decision support tools that contain classified information. Three prior closed meetings, held in November 2013, were approved with similar agendas. Two additional meetings, including this one, are being held to finalize and write recommendations. The fifth meeting will be held on December 17, 2013.

Agenda: The agenda items for both meetings are:

—The role of airpower in the post-Afghanistan national security situations likely to be encountered by the Air Force capabilities and Airmen and the implications for the structure of the Air Force. This discussion will be organized into three categories. The “Away Game,” will involve emerging demands on Air Force capabilities such as: Intelligence, Surveillance and Reconnaissance, Remotely Piloted Aircraft, Space, Cyber, Special Operations, and Building Partnership Capacity. Commissioners will also explore the implications of rising demands and expectations for the “Home Game” in missions such as Homeland Defense, Homeland Security, and Defense Support to Civil Agencies. This will include implications for the structure of the Air Force from the growing threat of the “Away Game” involving simultaneous attacks on the Homeland. The third area of discussion will be on the continuing growth of demand on traditional Air Force core functions including: Air Superiority, Air Mobility, Global Precision Attack, Nuclear Deterrence Operations, Command and Control, Personnel Recovery, Agile Combat Support, Training and Education, and other specific mission sets such as security forces, civil engineering and science and technology.

—Projections and assumptions about future resource levels that will be available to organize, train and equip the Air Force. This will include assumptions about how the Budget Control Act and Sequestration legislation will affect Total Obligational Authority and associated planning, programming and budgeting flexibility. Commissioners will also consider the impact of strategic choices on Air Force capabilities and force structure options derived from the selection of national priorities among modernization, technology, recapitalization, readiness, capacity and force structure. In this discussion Commissioners will consider the various approaches to how to calculate and apply cost methods and data to questions of force structure.

—The root causes of legislative and bureaucratic development of the force structure issues that led to the creation of the Commission in 2013. They will consider how these issues are rooted in the American militia heritage and the history of the Air Force since 1947. This discussion will extend to accounting for the socio-cultural dimensions of force structure issues ranging from the fundamental relationship of the American people to their military and to sub-cultures within the Air Force.

—How to institutionalize the shift in the fundamental role of the reserve components from a strategic reserve to an operational reserve with associated expectations. Commissioners will also consider the force mix options they are prepared to assess in terms of relative weight of force structure in each of the components. Commissioners will consider whether to recommend that the Department of Defense invert the force sizing planning paradigm from sizing to meet the expected wartime surge to an approach that begins with the Steady State Requirement then resource the components to provide the nation with a meaningful surge capacity for the strategy. They will also address considerations for measuring and assessing Active, Reserve and Guard Effectiveness—both cost and mission effectiveness.

—Alternative approaches to how the nation should direct, control and guide the active, reserve and National Guard Air Forces, including:

Whether, and if so how, to simplify Title 10, Title 32 and other governing legislative authorities;

How to re-balance the current mix of Active, Reserve and Guard components into and across any and all mission functions;

Whether, and if so how, to reorganize the Air Force Active, Reserve and National Guard into less than 3 components;

Can the Air Force move to a periodic readiness schedule without creating a “hollow force;”

Does component “ownership” of aircraft matter anymore and how can the Associate Unit paradigm be adapted to the future;

Approaching future force integration of new systems capabilities by means of a Concurrent Proportional resourcing method across the components to replace today's priority of equipping the Active Component first;

Accelerating the adoption of a “Continuum of Service” model to facilitate the ability of Airmen to move from any component into another at multiple points in their career path without prejudice;

Enhancing the total force through equalized opportunities across the components for professional and technical education and shared experiences.

Recognizing in promotion and selection processes differing but equivalent ends, ways, and means of professional development;

Fundamental shift in policy goals for “Deploy-to-Dwell,” “Mobilization-to-Dwell,” and associated metrics for the post-Afghanistan period, as well as how deployment credit will be accounted;

Reconsider the nation's needs for Overseas Basing and the capacity of continental United States' infrastructure afforded by investments in Reserve and Guard basing capacities available to the Total Force.

Meeting Accessibility: In accordance with section 10(d) of the FACA, 5 U.S.C. 552b, and 41 CFR 102-3.155, the DoD determined that the Tuesday, December 10, 2013 meeting will be closed to the public in its entirety. Specifically, the Director of Administration and Management, with the coordination of the DoD FACA Attorney, has determined in writing that this meeting will be closed to the public because it discussed classified information and matters covered by 5 U.S.C. 552b(c)(1).

Written Comments: Pursuant to 41 CFR 102-3.105(j) and 102-3.140 and section 10(a)(3) of the FACA, the public or interested organizations may submit written comments to the Commission in response to the stated agenda of the closed meeting or the Commission's mission. The Designated Federal Officer (DFO) will review all submitted written statements before forwarding to the Commission. Written comments should be submitted to Mrs. Marcia Moore, DFO, via facsimile or electronic mail, the preferred modes of submission. Each page of the comment must include the author's name, title or affiliation, address, and daytime phone number. All contact information may be found in the FOR FURTHER INFORMATION CONTACT section. While written comments are forwarded to the Commissioners upon receipt, note that all written comments on the Commission's charge, as described in the Background section, must be received by 5:00 p.m. on December 13, 2013 to be considered by the Commissioners for the final report. This deadline for emailed and faxed comments has been extended from November 29, 2013. The postmark deadline to mail comments was November 8, 2013.

Due to difficulties finalizing the meeting agenda for the scheduled meeting of the National Commission on the Structure of the Air Force for Tuesday, December 10, 2013, the requirements of 41 CFR 102-3.150(a) were not met. Accordingly, the Advisory Committee Management Officer for the Department of Defense, pursuant to 41 CFR 102-3.150(b), waives the 15-calendar day notification requirement.

Background

The National Commission on the Structure of the Air Force was established by the National Defense Authorization Act for Fiscal Year 2013 (Pub. L. 112-239). The Department of Defense sponsor for the Commission is the Director of Administration and Management, Mr. Michael L. Rhodes. The Commission is tasked to submit a report, containing a comprehensive study and recommendations, by February 1, 2014 to the President of the United States and the Congressional defense committees. The report will contain a detailed statement of the findings and conclusions of the Commission, together with its recommendations for such legislation and administrative actions it may consider appropriate in light of the results of the study. The comprehensive study of the structure of the U.S. Air Force will determine whether, and how, the structure should be modified to best fulfill current and anticipated mission requirements for the U.S. Air Force in a manner consistent with available resources.

The evaluation factors under consideration by the Commission are for a U.S. Air Force structure that—(a) meets current and anticipated requirements of the combatant commands; (b) achieves an appropriate balance between the regular and reserve components of the Air Force, taking advantage of the unique strengths and capabilities of each; (c) ensures that the regular and reserve components of the Air Force have the capacity needed to support current and anticipated homeland defense and disaster assistance missions in the United States; (d) provides for sufficient numbers of regular members of the Air Force to provide a base of trained personnel from which the personnel of the reserve components of the Air Force could be recruited; (e) maintains a peacetime rotation force to support operational tempo goals of 1:2 for regular members of the Air Forces and 1:5 for members of the reserve components of the Air Force; and (f) maximizes and appropriately balances affordability, efficiency, effectiveness, capability, and readiness.

Dated: December 11, 2013.
Aaron Siegel,
Alternate OSD Federal Register Liaison Officer, Department of Defense.

[FR Doc. 2013-29793 Filed 12-13-13; 8:45 am]

BILLING CODE 5001-06-P